DEPARTMENT OF ENERGY

Federal Energy Regulatory Commission

[Docket No. RP97-13-013]

East Tennessee Natural Gas Company; Notice of Negotiated Rates

May 6, 2004.

Take notice that on April 27, 2004, East Tennessee Natural Gas Company (East Tennessee) tendered for filing as part of its FERC Gas Tariff, Second Revised Volume No. 1, Fifth Revised Sheet No. 177, included in Appendix A thereto, and certain service agreements and letter agreements proposed to be effective on May 1, 2004.

East Tennessee states that the purpose of this filing is to implement two negotiated rate agreements and one discounted rate agreement with Carolina Power & Light Company (CPL). Accordingly, East Tennessee filed in Appendix B of the filing the service agreements, and in Appendix C of the filing, the negotiated rate letter agreements and discounted rate letter agreement corresponding to the service agreements with CPL.

East Tennessee states that copies of the filing have been mailed to all affected customers and interested state commissions

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1095 Filed 5-12-04; 8:45 am]

BILLING CODE 6717-01-P